DEPARTMENT OF JUSTICE

Antitrust Division

Notice Pursuant to the National Cooperative Research and Production Act of 1993—Naval Surface Technology & Innovation Consortium

Notice is hereby given that, on October 8, 2019, pursuant to Section 6(a) of the National Cooperative Research and Production Act of 1993, 15 U.S.C. 4301 et seq. (“the Act”), Naval Surface Technology & Innovation Consortium (“NSTIC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 300 Below, Inc., Decatur, IL; Accenture Federal Services LLC, Arlington, VA; Accurate Energetic Systems, LLC, McEwen, TN; Ace Electronics Defense Systems, Aberdeen Proving Ground, MD; Acquisition Systems Associates, Inc., Tysons, VA; ADI Technologies Inc., Chantilly, VA; Advanced Ground Information Systems (AGIS) Inc., Jupiter, FL; Advanced Hydrogen Technologies Corporation (AHTC), Lenoir, NC; Aerojet Rocketdyne, Huntsville, AL; Aeronix Inc., Melbourne, FL; Agile Defense Inc., Reston, VA; Akita Innovations LLC, North Billerica, MA; Aleta Technologies, Inc., Huntsville, AL; Alion Science and Technology Corporation, New London, CT; Alliant Techsystems Operations LLC, Plymouth, MN; Alloy Surfaces Company, Inc., Chester Township, PA; Altamira Technologies Corporation, McLean, VA; American Defense International, Inc., Washington, DC; American Rheinmetall Munitions, Inc., Stafford, VA; American Rheinmetall Systems, Biddeford, ME; American Systems Corporation, Chantilly, VA; ANDRO Computational Solutions, LLC, Rome, NY; Anyar, Inc., Ft. Walton Beach, FL; Applied Composites, San Diego, CA; Applied Physical Sciences Corp., Groton, CT; Applied Research Associates, Inc., Albuquerque, NM; Applied Technology, Inc., King George, VA; Applied Visions, Inc. Secure Decisions Division, Northport, NY; APT Research Inc., Huntsville, AL; Aquabotix Technology Corporation, Jamestown, RI; Ardalyst Federal, LLC, Annapolis, MD; Area-I, Inc., Kennesaw, GA; ARES, Inc., Port Clinton, OH; Arrow Tech Associates, Inc., Burlington, VT; Artis LLC, Herndon, VA; Ashwin‐Ushas Corporation, Holmdel, NJ; ASRC Federal Agile Decision Sciences, Huntsville, AL; ASSETT, Inc., Manassas, VA; Assured Information Security, Inc., Rome, NY; Asymmetric Technologies, LLC, Columbus, OH; ATA Engineering, Inc., San Diego, CA; A-Tech Corporation, Albuquerque, NM; ATK Launch Systems Inc., Corinne, UT; Auburn University, Auburn, AL; AURA Technologies, LLC, Raleigh, NC; Avineon, Inc., McLean, VA; BAE Systems Information & Electronic Systems Integration, Inc., Hudson, NH; Battelle Memorial Institute, Columbus, OH; Beast Code, Fort Walton Beach, FL; Bevilacqua Research Corporation, Huntsville, AL; Big Metal Additive, LLC, Wheat Ridge, CO; Bigelow Family Holdings, LLC, dba Mettle Ops, Sterling Heights, MI; BlazeTech Corporation, Woburn, MA; Boarhog LLC, San Diego, CA; Booz Allen Hamilton, Inc., McLean, VA; Bradshaw Engineering and Technical Services, LLC, Huntsville, AL; Bren-Tronics, Inc., Commack, NY; Broadband Antenna Tracking Systems Inc. (BATS), Indianapolis, IN; Bruker Detection Corporation, Billerica, MA; B-SKIES, INC., Ellicott City, MD; C Z and Associates, Inc., VA; CACI, INC.—FEDERAL, Chantilly, VA; Cera Nova Corporation, Marlborough, MA; Certus Solutions, LLC, Fredericksburg, VA; CFD Research Corporation, Huntsville, AL; CGS GROUP LLC, Artesia, NM; Chandler Automated Systems dba Vigilant Technologies, Tempe, AZ; Cirrus, LLC, Walla Walla, WA; Cisco Systems Inc., San Jose, CA; Clogic Defense, August, NJ; CogniTech Corporation, Salt Lake City, UT; ColdQuanta, Inc., Boulder, CO; Command Decisions Systems & Solutions, Inc., Stafford, VA; Command Post Technologies, Inc., Suffolk, VA; Composite Design & Development, Scarborough, ME; Concurrent Technologies Corporation, Johnstown, PA; Control Solutions LLC, Aurora, IL; Copious Imaging LLC, Lexington, MA; Corvid Technologies, Mooresville, NC; Creare LLC, Hanover, NH; Crossflow Technologies, Inc., Albertville, AL; Curtiss-Wright Electro-Mechancal Corporation, Cheswick, PA; Cybernet Systems Corporation, Ann Arbor, MI; Cypress International, Alexandria, VA; DataRobot, Boston, MA; Davidson Technologies, Inc., Huntsville, AL; Day & Zimmermann, Lone Star, LLC, Texarkana, TX; DE Technologies Inc., King of Prussia, PA; deciBel Research, Inc., Huntsville, AL; Defense Engineering Services LLC, Charleston, SC; Design Interactive, Inc., Orlando, FL; DHPC Technologies, Inc., Woodbridge, NJ; Digital Cloak, LLC, Stafford, VA; Disruptive Technology Associates, Ltd, Phoenix, AZ; DLT Solutions, LLC, Herndon, VA; DRS Laurel Technologies, Johnstown, PA; Dynetics Technical Solutions, Inc., Huntsville, AL; Dynetics, Inc., Huntsville, AL; EaglePicherTechnologies, LLC, Joplin, MO; Eduworks Corporation, Corvallis, OR; EFW Inc., an Elbit Systems of America, Fort Worth, TX; El Dorado Engineering, West Jordan, UT; ELTA North America, Annapolis Junction, MD; EngeniusMicro, Huntsville, AL; Ensign-Bickford Aerospace & Defense Company, Simsbury, CT; En'Urga Inc., West Lafayette, IN; Envistacom, LLC, Atlanta, GA; EOS Defense Systems USA, Inc., Huntsville, AL; eTRANSERVICES Corp., Fredericksburg, VA; EWA Government Systems, Inc., Herndon, VA; EWI, Columbus, OH; Fabrisonic LLC, Columbus, OH; Fibertek, Inc., Herndon, VA; FLIR Commercial Systems, Goleta, CA; Forge AI, Cambridge, MA; Franklin Engineering Group, Inc., Franklin, TN; FREEDOM PHOTONICS LLC, Goleta, CA; Frontier Technology Inc., Beavercreek, OH; General Dynamics Mission Systems, Fairfax, VA; General Dynamics Ordnance and Tactical Systems (Huntsville), Huntsville, AL; General Dynamics Ordnance and Tactical Systems Inc. (Saint Petersburg), Saint Petersburg, FL; General Dynamics OTS (Aerospace), Inc., Bothell, WA; General Dynamics OTS (Niceville), Inc., Niceville, FL; General Technical Services, LLC, Wall Township, NJ; GenXComm., Austin, TX; Geocent, L.L.C., Metairie, LA; Gibbs & Cox, Inc., Arlington, VA; Global Defense, Inc., Arlington, VA; GSD, LLC, Williamsburg, VA; Guidehouse LLP, McLean, VA; HART Technologies, Inc., Manassas, VA; HDT Expeditionary Systems, Inc., Fredericksburg, VA; HII Technical Solutions Corporation, Virginia Beach, VA; Honeywell, Phoenix, AZ; IAI North America, Inc., Arlington, VA; IERUSTECH, Huntsville, AL; II-VI Optical Systems, Murrieta, CA; In-Depth Engineering Corporation, Fairfax, VA; Indiana Microelectronics, LLC, West Lafayette, IN; Innovative Concepts Engineering Inc., Greenbelt, MD; Innovative Defense Technologies, Arlington, VA; Innovative Materials and Processes, LLC, Rapid City, SD; Innoveering LLC, Ronkonkoma, NY; Insight Public Sector, Tempe Arizona, AZ; Integration Innovation, Inc., Huntsville, AL; Intuitive Research and Technology Corporation, Huntsville, AL; IPG Photonics Corporation, Oxford, MA; Iris Technology Corporation, Irvine, CA; ISSAC Corp., Colorado Springs, CO; ITT Enidine, Inc., Orchard Park, NY; Jankel Tactical Systems, LLC, Duncan, SC; Jensen Hughes, Inc., Baltimore, MD; JOHN H NORTHROP & ASSOCIATES INC. (JHNA), Clifton, VA; Keysight Technologies, Colorado Springs, CO; Knight's Armament Company, Titusville, FL; Kopis Mobile LLC, Flowood, MS; Kord Technologies Inc., Huntsville, AL; Kratos Technology & Training Solutions, Inc., San Diego, CA; Kudu Dynamics, LLC, Chantilly, VA; Kyma Technologies, Inc., Raleigh, NC; L3 Harris Technologies, Inc., Williamsport, PA; L-3 Mustang Technology, L.P., Plano, TX; L3 Technologies, Inc., Insight Technology Division, Londonderry, NH; L-3 Unidyne, Inc., Norfolk, VA; L3Harris Force X, Nashville, TN; L3Harris Technologies Harris Government Communication Systems, Palm Bay, FL; L3Harris, Inc.—Brashear Division, Pittsburgh, PA; L3Harris/C5S, Camden, NJ; La Jolla Logic, Inc., San Diego, CA; Lasertel, Inc., Tucson, AZ; Leidos Inc., Reston, VA; Lewis Machine & Tool Co., Eldridge, IA; lntevac Photonics, Inc., Santa Clara, CA; Lockheed Martin Aculight Corporation, Bothell, WA; Lockheed Martin Corporation, Riviera Beach, FL; Lockheed Martin Corporation, Missiles and Fire Control, Orlando, FL; Logistic Services International, Inc., Jacksonville, FL; Lone Star Analysis, Addison, TX; Luna Innovations Incorporated, Roanoke, VA; Management Services Group, Inc., Virginia Beach, VA; Manufacturing Techniques, Inc. (MTEQ), Lorton, VA; Marotta Controls, Inc., Montville, NJ; Marvin Test Solutions, Irvine, CA; Materials Sciences LLC, Horsham, PA; Matrix Research, Dayton, OH; MATSYS, Inc., Sterling, VA; MBDA Incorporated, Arlington, VA; McCormick Stevenson Corporation, Clearwater, FL; McNally Industries, LLC, Grantsburg, WI; McQ Inc., Fredericksburg, VA; Mercury Systems, Inc., Andover, MA; Metamagnetics Inc., Westborough, MA; MilDef, Inc., Brea, CA; Military Systems Group, Inc., Nashville, TN; Mills Marine & Ship Repair LLC, Suffolk, VA; Mission Solutions, LLC, Moorestown, NJ; MISTIC, Inc., Roswell, NM; Mistral Inc., Bethesda, MD; Modern Technology Solutions, Inc., Alexandria, VA; Moog Inc., Space & Defense Group, Elma, NY; NAG, LLC, dba NAG Marine, Norfolk, VA; Nammo Talley, Inc., Mesa, AZ; NanoElectromagnetics, LLC, Columbia, MO; NASCENTechnology Manufacturing Inc., Watertown, SD; National Technical Systems (NTS), Anaheim, CA; Navanti Group, LLC, Arlington, VA; Navatek LLC, Honolulu, HI; NetApp US Public Sector, Vienna, VA; New Mexico Institute of Mining and Technology, Socorro, NM; nLIGHT Inc., Vancouver, WA; Northrop Grumman Innovation Systems, Rocket Center, WV; Northrop Grumman Mission Systems, Linthicum, MD; NovaTech, Lynchburg, VA; Nufern, Inc., East Granby, CT; Nu-Trek Inc., San Diego, CA; Nutronics, Inc., Longmont, CO; Objective InterfaceSystems, Inc., Herndon, VA; Offset Strategic Services, Huntsville, AL; Opto-Knowledge Systems, Inc. (OKSI), Torrance, CA; ORBIS Sibro, Inc., Charleston, SC; Pacific Antenna Systems LLC, Camarillo, CA; Palantir USG, Inc., Palo Alto, CA; Parker Hannifin Corporation, Mayfield Heights, OH; PeopleTec, Inc., Huntsville, AL; Peraton, Herndon, VA; Persistent Systems, LLC, New York, NY; Perspecta Enterprise Solutions LLC, Herndon, VA; Perstecta Engineering Inc., Chantilly, VA; Planck Aerosystems, San Diego, CA; Plasan North America, Walker, MI; Plasma Processes, Huntsville, AL; Platform Systems, Incorporated dba Platform Aerospace, Hollywood, MD; Polaris Alpha Advanced Systems, Inc., Aberdeen Proving Ground, MD; Polaris Contract Manufacturing, Inc., Marion, MA; Polaris Sensor Technologies, Inc., Huntsville, AL; Practical Energetics Research/PER, Huntsville, AL; Praescient Analytics, Alexandria, VA; Pratt and Miller Engineering & Fabrication, Inc., New Hudson, MI; Princeton Infrared Technologies, Inc., Monmouth Jct., NJ; PURVIS Systems Incorporated, Middletown, RI; QED Systems Inc., Virginia Beach, VA; Qlik Tech, King of Prussia, PA; QUANTITATIVE SCIENTIFIC SOLUTIONS, LLC, Arlington, VA; Quantum Dimension, Inc., Huntington Beach, CA; QuesTek Innovations LLC, Evanston, IL; Raytheon BBN, Cambridge, MA; RAYTHEON COMPANY, Waltham, MA; RCT Systems, Baltimore, MD; Redfish Trading, LLC, San Antonio, TX; Rigil Corporation, Washington, DC; Riverside Research Institute, New York, NY; RKF Engineering Solutions, LLC, Bethesda, MD; Robotic Research, LLC, Gaithersburg, MD; RPI Group, Inc., Fredericksburg, VA; S2 Corporation, Bozeman, MT; Sabre Systems, Inc., Warrington, PA; Saft America Inc., Cockeysville, MD; SAVIT Corporation, Rockaway, NJ; Science Applications International Corporation (SAIC), Reston, VA; Sciperio Inc., Orlando, FL; SciTec, Inc., Princeton, NJ; Sechan Electronics, Inc., Lititz, PA; Selex Gaileo Inc., Arlington, VA; Sensing Strategies, Inc., Pennington, NJ; Sentar, Inc., Huntsville, AL; Senvol LLC, New York, NY; Serco Inc., New London, CT; Shared Spectrum Company, Vienna, VA; Shipcom Federal Solutions LLC, Houston, TX; Simulation Technologies, Inc., Huntsville, AL; Simulations, LLC, East Granby, CT; SitScape, Inc., Vienna, VA; Skayl, LLC, Westminster, MD; Soar Technology, Inc., Ann Arbor, MI; SOLUTE, Inc., San Diego, CA; Solution Now Enterprises, Winter Park, FL; Sonalysts, Inc., Waterford, CT; Southwest Research Institute (SwRI), San Antonio, TX; SPARC Research LLC, Warrington, VA; Spear Research, LLC, Nashua, NH; Specialized Technical Systems, LLC, Tewksbury, MA; SRC, Inc., Syracuse, NY; SRI International, Menlo Park, CA; Steelhead Composites LLC, Golden, CO; Steiner eOptics, Inc., Miamisburg, OH; Summit Technical Solutions, LLC, Colorado Springs, CO; SURVICE Engineering Company, LLC, Belcamp, MD; Systecon North America, Arlington, VA; Systems Engineering Group, Inc., Columbia, MD; Systems Planning and Analysis, Inc., Alexandria, VA; TDI Technologies, Inc., King of Prussia, PA; Technology Service Corporation, Arlington, VA; Teledyne Scientific and Imaging, LLC, Thousand Oaks, CA; Texas Research Institute Austin, Inc., Austin, TX; Thales Defense & Security, Inc., Clarksburg, MD; The Boeing Company, Saint Louis, MO; The Curators of the University of Missouri, Columbia, MO; The Informatics Applications Group, Inc. (TIAG), Reston, VA; The Pennsylvania State University Applied Research Laboratory Electro-Optics Center Division, Freeport, PA; The Regents of the University of Colorado (CU Boulder), Boulder, CO; TORC Robotics, Inc., Blacksburg, VA; Toyon Research Corporation, Goleta, CA; TPL, Inc., Albuquerque, NM; TriVector Services, Inc., Huntsville, AL; True Velocity, INC., Garland, TX; TRX Systems, Inc., Greenbelt, MD; Ultra Electronics Ocean Systems, Braintree, MA; Unconventional Concepts, Fort Walton Beach, FL; Unisys Corporation, Reston, VA; United Protective Technologies LLC, Locust, NC; Universal Technology Corporation, Dayton, OH; University of Mississippi, University, MS; University of Rhode Island, Kingston, RI; Veritay Technology, Inc., East Amherst, NY; Vertosoft LLC, Leesburg, VA; Virginia Polytechnic Institute and State University, Blacksburg, VA; W R SYSTEMS, LTD (WR), Norfolk, VA; Waltonen Engineering, Inc., Warren, MI; Whitespace Innovations, Inc., Huntsville, AL; Wireless Technology Assoc., Inc., Setauket, NY; Wyle Laboratories, Inc. (KBR), Huntsville, AL; XL Scientific LLC, dba Verus Research, Albuquerque, NM; Zekiah Technologies, Inc., LaPlata, MD, and the members of the National Armaments Consortium (NAC), whose last filing can be found at (84 FR 46565).

The general area of NSTIC's planned activity is to conduct research, development, and prototyping of projects and programs in the following technology areas: Multi-function Materials, Cyber, Big Data Analytics/Artificial Intelligence/Machine Learning, Directed Energy Science & Engineering, Advanced Computing and Software Engineering, Autonomous and Unmanned Systems, Sensor Systems, Gun and Projectile Systems, Digital Engineering, Human Systems Integration, Quantum Technologies, Threat Engineering, Mission Engineering and Analysis, Integrated Warfare Systems, Virtualization, Asymmetric Warfare, Manufacturing, Lethality, Surface Offensive & Defensive Engagements, and Launcher Technology.

Suzanne Morris,
Chief, Premerger and Division Statistics Unit, Antitrust Division.

[FR Doc. 2019-24483 Filed 11-8-19; 8:45 am]

BILLING CODE 4410-11-P